DEPARTMENT OF THE INTERIOR

Geological Survey

National Cooperative Geologic Mapping Program (NCGMP) Advisory Committee

AGENCY: United States Geological Survey, Interior.

ACTION: Notice of Meeting.

SUMMARY: Pursuant to Public Law 108-148, The NCGMP Advisory Committee will meet in the Rachel Carson/John Muir Rooms of the Main Interior Building 1849 C. Street NW., Washington, DC. The Advisory Committee, comprised of scientists from Federal agencies, State agencies, academic institutions, and private companies, will advise the Director on planning and implementation of the geologic mapping program.

Topics to be reviewed and discussed by the Advisory Committee include:

• Progress of the NCGMP towards fulfilling the purposes of the National Geologic Mapping Act of 1992

• Updates on the Federal, State, and educational components of the NCGMP

• Strategic Goals

DATES: October 31-November 2, 2000, commencing at 9:00 a.m. on October 31st and adjourning by 1:00 p.m. on November 1st.

FOR FURTHER INFORMATION CONTACT: Martha N. Garcia, U.S. Geological Survey, Mail Stop 908, National Center Reston, Virginia, 20192, (703) 648-6978.

SUPPLEMENTARY INFORMATION: Meetings of the National Cooperative Geologic Mapping Program Advisory Committee are open to the public.

Dated: September 22, 2000.
P. Patrick Leahy,
Associate Director for Geology, U.S. Geological Survey.

[FR Doc. 00-25179 Filed 9-29-00; 8:45 am]

BILLING CODE 4310-Y7-M